DEPARTMENT OF LABOR

Office of Federal Contract Compliance Programs

[Docket #OFCCP-2025-0067]

Proposed Revision of Information Collection Request; U.S. Department of Labor Office of Federal Contract Compliance Programs Recordkeeping Requirements—29 U.S.C. 793 Section 503 of the Rehabilitation Act of 1973, as Amended (OMB Control No. 1250-0005)

AGENCY: Office of Federal Contract Compliance Programs, Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the Office of Federal Contract Compliance Programs (OFCCP) is soliciting comments on its information collection for Section 503 of the Rehabilitation Act of 1973, As Amended.

DATES: All comments must be received on or before October 24, 2025.

ADDRESSES: You may submit comments as follows. Please note that late, untimely filed comments will not be considered.

Electronic Submissions: Submit electronic comments in the following way:

• Federal eRulemaking Portal: https://www.regulations.gov. Follow the instructions for submitting comments for OFCCP-2025-0067. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-OFCCP, Division of Policy and Program Development, 200 Constitution Avenue NW, Room C-3325, Washington, DC 20210.

• OFCCP will post your comment as well as any attachments, except for information submitted and marked as confidential, in the docket at https://www.regulations.gov.

FOR FURTHER INFORMATION CONTACT: Catherine Eschbach, Director, Office of Federal Contract Compliance Programs, 200 Constitution Avenue NW, Washington, DC 20210. Telephone: (202) 693-0101 or toll free at 1-800-397-6251. If you are deaf, hard of hearing, or have a speech disability, please dial 7-1-1 to access telecommunications relay services. Copies of this notice may be obtained in alternative formats (large print, braille, audio recording) upon request by calling the numbers listed above.

SUPPLEMENTARY INFORMATION:

I. Background

OFCCP administers and enforces Section 503 of the Rehabilitation Act of 1973, as amended (Section 503), and the Vietnam Era Veterans' Readjustment Assistance Act of 1974, as amended (VEVRAA). Section 503 together with its regulations prohibits employment discrimination against applicants and employees based on disability and requires Federal contractors and subcontractors to take steps to employ, advance in employment, and otherwise treat qualified individuals without discrimination based on disabilities. Its basic coverage requirements apply to contractors with a federal contract or subcontract of more than $15,000. Contractors with 50 or more employees and a single Federal contract or subcontract of $50,000 or more are also required to develop and maintain an affirmative action program (AAP), where they must implement and document their equal employment opportunity efforts on an annual basis. VEVRAA together with its regulations prohibits employment discrimination against applicants and employees based on protected veteran status. It also requires contractors to take steps to employ and advance in employment qualified protected veterans, namely disabled veterans, recently separated veterans, active-duty wartime or campaign badge veterans, and Armed Forces service medal veterans, and to otherwise treat qualified individuals without discrimination based on their status as a protected veteran. Its basic coverage requirements apply to contractors with a federal contract or subcontract of $150,000 or more.

On July 1, 2025, DOL issued a Notice of Proposed Rulemaking (NPRM) to revise the Section 503 regulations at 41 CFR part 60-741. See 90 FR 28494. Specifically, DOL proposed to rescind the regulations at 41 CFR 60-741.42, which require contractors to invite applicants and employees to voluntarily self-identify their disability status. In the NPRM, DOL also proposed to remove the utilization goal requirements at 41 CFR 60-741.45 and the data collection analysis requirements at 41 CFR 60-741.44(k). These regulations require contractors to collect data on applicants and hires with disabilities and require contractors to apply a seven percent utilization goal for employment of qualified individuals with disabilities to each of their job groups, or to their entire workforce if the contractor has 100 or fewer employees. The regulations also require covered contractors to conduct a utilization analysis, where they evaluate the representation of individuals with disabilities in each job group within their workforce (or across the entire workforce if they have 100 or fewer employees) with the seven percent utilization goal. When the percentage is less than the utilization goal established, the contractor must take steps to determine whether and where impediments to equal employment opportunity exist. Finally, the regulations require covered contractors to use their hiring data for applicants with disabilities to evaluate the effectiveness of their external outreach and recruitment efforts. As detailed in the NPRM, DOL is proposing removing these requirements due to concerns that these requirements conflict with the Americans with Disabilities Act and to better align the regulations with recent case law and executive orders, including Executive Order 14173, “Ending Illegal Discrimination and Restoring Merit-Based Opportunity,” and Executive Order 14219, “Ensuring Lawful Governance and Implementing the President's `Department of Government Efficiency' Deregulatory Initiative.” More specifically, some of the requirements that DOL proposes to remove are tied to the Executive Order 11246 regulations, which DOL has proposed rescinding because Executive Order 11246 was revoked by Executive Order 14173. The proposed changes would also reduce the recordkeeping and third-party disclosure requirements in this information collection request, as the agency would be removing obligations related to the self-identification and data collection requirements while retaining other requirements related to contractors' 41 CFR 60-741.44 obligations.

II. Desired Focus of Comments

OFCCP is soliciting comments concerning the proposed information collection. OFCCP is particularly interested in comments that:

• Evaluate whether the collection of information is necessary for the proper performance of the functions of the Agency, including whether the information has practical utility;

• Evaluate the accuracy of OFCCP's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://www.regulations.gov. Questions about the information collection requirements may be directed to the person listed in the FOR FURTHER INFORMATION section of this notice.

III. Current Actions

This information collection, OMB Control Number 1250-0005, includes the recordkeeping and third-party disclosure requirements under Section 503 if the agency were to adopt the proposed changes described above. OFCCP has updated the number of respondents, responses, forms, and burden hours from the previous information collection request. OFCCP has also updated the operating and maintenance burden costs associated with the proposed changes.

Agency: Office of Federal Contract Compliance Programs.

Type of Review: Revision of a currently approved collection.

Title of Collection: U.S. Department of Labor Office of Federal Contract Compliance Programs Recordkeeping Requirements—29 U.S.C. 793 Section 503 of the Rehabilitation Act of 1973, As Amended.

OMB Control Number: 1250-0005.

Affected Public: Business or other for profit; individuals.

Estimated Number of Respondents: 119,971 Contractor Establishments.

Frequency: On occasion.

Number of Responses: 119,971.

Estimated Average Time per Response: 1.91 hours per Contractor Establishment.

Estimated Total Annual Burden Hours: 229,648 total burden hours.

Total Estimated Annual Other Cost Burden: $0 (operating and maintenance costs).

Forms: None.

Comments submitted in response to this notice will be summarized in the request for Office of Management and Budget approval of the proposed information collection request; they will become a matter of public record and will be available at https://www.reginfo.gov.

(Authority: 29 U.S.C. 793.)

Catherine Eschbach,
Director, Office of Federal Contract Compliance Programs.

[FR Doc. 2025-16258 Filed 8-22-25; 8:45 am]

BILLING CODE 4510-CM-P